DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than August 15, 2003.

Interested persons are invited to submit written comments regarding the subject matter of the investigations to the Director, Division of Trade Adjustment Assistance, at the address shown below, not later than August 1, 2003.

The petitions filed in this case are available for inspection at the Office of the Director, Division of Trade Adjustment Assistance, Employment and Training Administration, U.S. Department of Labor, Room C-5311, 200 Constitution Avenue, NW., Washington, DC 20210.

Signed at Washington, DC this 30th day of June 2003.
Timothy Sullivan,
Director, Division of Trade Adjustment Assistance.

APPENDIX
[Petitions instituted between 06/23/2003 and 06/27/2003]
TA-W | Subject firm (petitioners) | Location | Date of institution | Date of petition
52,111 | State of Alaska Commercial Fisheries (Comp) | Nuchagak, AK | 06/23/2003 | 06/05/2003
52,112 | Hooker Funiture Corporation (Comp) | Kernersville, NC | 06/23/2003 | 06/20/2003
52,113 | Georgetown Steel Company, LLC (Comp) | Georgetown, SC | 06/23/2003 | 06/20/2003
52,114 | Kalpak USA (Comp) | Hillside, NJ | 06/23/2003 | 06/21/2003
52,115 | Penn Iron Works, Inc. (Wkrs) | Sinking Spring, PA | 06/23/2003 | 06/16/2003
52,116 | SPI Polyeols, Inc. (USWA) | New Castle, DE | 06/23/2003 | 06/17/2003
52,117 | Johnstown America Corp. (Wkrs) | Johnstown, PA | 06/23/2003 | 06/09/2003
52,118 | ORC Plastics (Comp) | Lafayette, IN | 06/23/2003 | 06/20/2003
52,119 | Tweco Products, Inc. (Comp) | Wichita, KS | 06/23/2003 | 06/23/2003
52,120 | Maine Machine Products (Comp) | South Paris, ME | 06/23/2003 | 06/20/2003
52,121 | Anvil Knitwear, Inc. (Comp) | Hamer, SC | 06/23/2003 | 06/17/2003
52,122 | Alden Products Company (Comp) | Brockton, MA | 06/23/2003 | 06/10/2003
52,123 | Honeywell, Inc. (Comp) | Birmingham, AL | 06/23/2003 | 06/16/2003
53,124 | New England Joint Board (UNITE) | Willimantic, Ct. | 06/23/2003 | 06/18/2003
52,125 | A.O. Smith, EPC (Comp) | Ripley, TN | 06/24/2003 | 06/23/2003
52,126 | Broyhill Furniture (Wkrs) | Lenoir, NC | 06/24/2003 | 06/03/2003
52,127 | Swag-Nit, Inc. (Comp) | Mt. Holly, NC | 06/24/2003 | 06/23/2003
52,128 | Control Engineering Company (Wkrs) | Harbor Springs, MI | 06/24/2003 | 06/16/2003
52,129 | Hewlett Packward Corporation (Wkrs) | Colorado Spgs., CO | 06/24/2003 | 06/18/2003
52,130 | Sherwin Williams Powder Plant (Wkrs) | Harrisburg, PA | 06/24/2003 | 06/23/2003
52,131 | Motorola (Comp) | Schaumburg, IL | 06/24/2003 | 06/24/2003
52,132 | Pennsylvania House, Inc. (Comp) | Monroe, NC | 06/24/2003 | 06/23/2003
52,133 | Auburn Machinery, Inc. (Comp) | Lewiston, ME | 06/25/2003 | 06/16/2003
52,134 | Trico Products Corporation (Comp) | Buffalo, NY | 06/25/2003 | 06/12/2003
52,135 | Vulcan Forging (UAW) | Dearborn, MI | 06/25/2003 | 06/23/2003
52,136 | Fairchild Semiconductor (Comp) | S. Portland, ME | 06/25/2003 | 06/09/2003
52,137 | Computer Science Corp. (Wkrs) | San Diego, CA | 06/25/2003 | 06/04/2003
52,138 | Agere Systems (Wkrs) | Breinigsville, PA | 06/25/2003 | 06/21/2003
52,139 | Discovery Plastics, Inc. (OR) | Albany, OR | 06/25/2003 | 06/24/2003
52,140 | North American Battery Company (Wkrs) | San Diego, CA | 06/26/2003 | 06/17/2003
52,141 | Broyhill Furniture (Comp) | Marion, NC | 06/26/2003 | 06/15/2003
52,142 | Covington Needleworks (Comp) | Mt. Olive, MS | 06/26/2003 | 06/13/2003
52,143 | Larimer and Norton, Inc. | Galeton, PA | 06/26/2003 | 06/19/2003
52,144 | Homecrest Industries, Inc. (MN) | Wadena, MN | 06/26/2003 | 06/25/2003
52,145 | Phillips Elmet (Wkrs) | Lewistown, ME | 06/26/2003 | 06/11/2003
52,146 | Bruce Furniture Industries(Comp) | Bruce, MS | 06/26/2003 | 06/06/2003
52,147 | Furniture Makers Supply (Comp) | Martinsville, VA | 06/26/2003 | 06/12/2003
52,148 | Coho Resources, Inc. (Wkrs) | Dallas, TX | 06/26/2002 | 06/18/2003
52,149 | GE-OEC Medical Systems (Wkrs) | Warsaw, IN | 06/26/2003 | 06/25/2003
52,150 | Honeywell (Comp) | Milpitas, CA | 06/26/2003 | 06/18/2003
52,151 | Portland General Electric Company (Comp) | Rainier, OR | 06/26/2003 | 06/25/2003
52,152 | Multilayer Technology, Inc. (Wkrs) | Roseville, MN | 06/26/2003 | 06/25/2003
52,153 | Target Director (Wkrs) | St. Paul, MN | 06/26/2003 | 06/25/2003
52,154 | Aviant Group (Wrks) | Mount Clemens, MI | 06/26/2003 | 04/11/2003
52,155 | SFO Apparel (Wkrs) | San Francisco, CA | 06/26/2003 | 06/13/2003
52,156 | DeLong Sportswear, Inc. (Comp) | Crowell, TX | 06/26/2003 | 06/25/2003
52,157 | Trombetta Camdel Corp. (WI) | Menomonee Falls, WI | 06/26/2003 | 06/25/2003
52,158 | CDI Corp. Northwest (OR) | Corvallis, OR | 06/27/2003 | 06/26/2003
52,159 | Milford Fabricating (MI) | Detroit, MI | 06/27/2003 | 06/20/2003
52,160 | AT&T (CA) | Pleasanton, CA | 06/27/2003 | 06/18/2003
52,161 | Progressive Screen Engraving, Inc. (Comp) | Wadesboro, NC | 06/27/2003 | 06/26/2003
52,162 | Oilgear Company (The)(Wkrs) | Longview, TX | 06/27/2003 | 06/26/2003
52,163 | General Mills, Inc. (Comp) | Mebane, NC | 06/27/2003 | 06/26/2003
52,164 | Castrol Industrial North America, Inc. (MN) | Duluth, MN | 06/27/2003 | 06/25/2003
52,165 | Endar Corporation (Comp) | Temecula, CA | 06/27/2003 | 06/19/2003
52,166 | Chas Komar and Sons (Comp) | McAlester, OK | 06/27/2003 | 06/19/2003
52,167 | General Mills, Inc. (Wkrs) | Hazelwood, MO | 06/27/2003 | 06/21/2003
52,168 | TRW Automotive (Comp) | Queen Creek, AZ | 06/27/2003 | 06/25/2003
52,169 | Allsteek, Inc. (Comp) | Milan, TN | 06/27/2003 | 06/18/2003
52,170 | Hill-Rom (Comp) | Batesville, IN | 06/27/2003 | 06/25/2003
52,171 | Read-Rite Corporation (Ca) | Fremont, CA | 06/27/2003 | 06/19/2003

[FR Doc. 03-18548 Filed 7-21-03; 8:45 am]

BILLING CODE 4510-30-M